DEPARTMENT OF TRANSPORTATION

Office of the Secretary

Notice of Applications for Certificates of Public Convenience and Necessity and Foreign Air Carrier Permits Filed Under Subpart B (Formerly Subpart Q) During the Week Ending July 5, 2014

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2014-0115.

Date Filed: July 1, 2014.

Due Date for Answers, Conforming Applications, or Motion to Modify Scope: July 22, 2014.

Description: Application of Polar Air Cargo Worldwide, Inc. requesting renewal of its certificate of public convenience and necessity for Route 820 authorizing it to provide scheduled foreign air transportation of property and mail between any point or points in the United States, via any intermediate points, to a point or points in China open to scheduled international operations, and beyond to any points outside of China, with full traffic rights.

Docket Number: DOT-OST-2014-0116.

Date Filed: July 2, 2014.

Due Date for Answers, Conforming Applications, or Motion to Modify Scope: July 23, 2014.

Description: Application of Aviation Partners of Boynton Beach, LLC d/b/a Hummingbird Air requesting authorization to transition from unscheduled to scheduled commuter service offing daily scheduled flights between St. Croix, U.S. Virgin Islands and the Eastern Caribbean States.

Barbara J. Hairston,
Supervisory Dockets Officer, Docket Operations, Federal Register Liaison.

[FR Doc. 2014-18473 Filed 8-4-14; 8:45 am]

BILLING CODE 4910-9X-P